ENVIRONMENTAL PROTECTION AGENCY

[FRL OP-OFA-046]

Environmental Impact Statements; Notice of Availability

Responsible Agency: Office of Federal Activities, General Information 202-564-5632 or https://www.epa.gov/nepa.

Weekly receipt of Environmental Impact Statements (EIS)

Filed November 18, 2022 10 a.m. EST Through November 28, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220178, Draft, FHWA, AR, Walnut Ridge—Missouri State Line (Future I-57), Comment Period Ends: 01/17/2023, Contact: Randal Looney 501-324-6430.

EIS No. 20220179, Final Supplement, USACE, LA, West Shore Lake Pontchartrain Hurricane and Storm Damage Risk Reduction Study, Review Period Ends: 01/03/2023, Contact: Landon D. Parr 504-862-1908.

Amended Notice

EIS No. 20220141, Draft, USCG, WA, Expansion and Modernization of Base Seattle, Comment Period Ends: 12/16/2022, Contact: Dean Amundson 510-637-5541.

Revision to FR Notice Published 10/07/2022; Extending the Comment Period from 12/02/2022 to 12/16/2022.

Dated: November 28, 2022.
Cindy S. Barger,
Director, NEPA Compliance Division, Office of Federal Activities.

[FR Doc. 2022-26278 Filed 12-1-22; 8:45 am]

BILLING CODE 6560-50-P